DEPARTMENT OF TRANSPORTATION

Surface Transportation Board

[STB Finance Docket No. 35045]

Duluth, Winnipeg and Pacific Railway Company—Amended Trackage Rights Exemption—Duluth, Missabe and Iron Range Railway Company

Duluth, Missabe and Iron Range Railway Company (DMIR) has agreed to amend the existing overhead trackage rights previously granted to Duluth, Winnipeg and Pacific Railway Company (DWP).¹ The rights extend between Shelton Junction, MN (milepost B 2.71 on DMIR's Virginia Branch), and Nopeming Junction, MN (milepost R 5.77 on DMIR's Spirit Lake Branch), a distance of approximately 64 miles. DWP states that the amendment will allow a limited expansion of DWP's rights on trackage over which it already operates.

¹ DWP initially obtained these trackage rights in Duluth, Winnipeg and Pacific Railway Company—Trackage Rights Exemption—Duluth, Missabe and Iron Range Railway Company, STB Finance Docket No. 34424 (Sub-No. 1) (STB served Apr. 9, 2004).

The purpose of the proposed transaction is to allow for nonexclusive overhead movements, reblocking cars within single trains, or setting out cars requiring servicing over the existing trackage (including an additional 616 feet of connecting track), thus enhancing operational efficiency. The transaction includes all industry spurs, connecting tracks and sidings now existent or hereafter constructed along the subject tracks, and right-of-way for the tracks, signals, interlocking devices and plants, telegraph and telephone lines, and other necessary appurtenances, a distance of approximately 63.82 miles, all within the State of Minnesota.

The earliest this transaction may be consummated is July 14, 2007, the effective date of the exemption (30 days after the exemption was filed).

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed no later than July 6, 2007 (at least 7 days before the exemption becomes effective).

An original and 10 copies of all pleadings, referring to STB Finance Docket No. 35045, must be filed with the Surface Transportation Board, 395 E Street, SW., Washington, DC 20423-0001. In addition, a copy of each pleading must be served on Thomas J. Healey, 17641 S. Ashland Ave., Homewood, IL 60430.

Board decisions and notices are available on our Web site at http://www.stb.dot.gov.

Decided: June 25, 2007.
By the Board, David M. Konschnik, Director, Office of Proceedings.
Vernon A. Williams,
Secretary.

[FR Doc. E7-12606 Filed 6-28-07; 8:45 am]

BILLING CODE 4915-01-P